DEPARTMENT OF COMMERCE

National Oceanic and Atmospheric Administration

RIN 0648-XA813

Mid-Atlantic Fishery Management Council (MAFMC); Public Meeting

AGENCY: National Marine Fisheries Service (NMFS), National Oceanic and Atmospheric Administration (NOAA), Commerce.

ACTION: Notice of a public meeting.

SUMMARY: The Mid-Atlantic Fishery Management Council's (MAFMC) Summer Flounder Monitoring Committee, Scup Monitoring Committee, Black Sea Bass Monitoring Committee, and the Mid-Atlantic Fishery Council's and the Atlantic States Marine Fisheries Commission's Summer Flounder, Scup, and Black Sea Bass Advisors will hold public meetings.

DATES: Wednesday, December 7, 2011 from 9 a.m. to 5 p.m. (Monitoring Committees in person) and Thursday, December 8, 2011 from 10 a.m. to 4 p.m. (Advisors via Webinar). See SUPPLEMENTARY INFORMATION for meeting agenda.

ADDRESSES: The Summer Flounder, Scup, and Black Sea Bass Monitoring Committee meetings will be held at the Doubletree by Hilton BWI Airport, 890 Elkridge Landing Road, Linthicum, MD 21090; (telephone: (410)-859-8060). The Summer Flounder, Scup, and Black Sea Bass Advisors meetings will be held via webinar with a telephone-only connection option. Details on webinar registration and the telephone-only connection details are available at: http://www.mafmc.org.

Council address: Mid-Atlantic Fishery Management Council, 800 N. State Street, Suite 201, Dover, DE 19901; telephone: (302) 674-2331.

FOR FURTHER INFORMATION CONTACT: Christopher M. Moore, Ph.D., Executive Director, Mid-Atlantic Fishery Management Council, 800 N. State Street, Suite 201, Dover, DE 19901; telephone: (302) 526-5255.

SUPPLEMENTARY INFORMATION: The Summer Flounder, Scup, and Black Sea Bass Monitoring Committee will meet on Wednesday, December 7, 2011 from 9 a.m. to 5 p.m. (see ADDRESSES) to reconsider the 2012 annual catch targets recommendations and other commercial management measures for summer flounder and scup, and to recommend recreational management measures for the summer flounder, scup, and black sea bass fisheries in 2012. On Thursday, December 8, 2011, the Summer Flounder, Scup, and Black Sea Bass Advisors will meet to reconsider their recommendations for the summer flounder and scup commercial management measures, and to recommend recreational management measures for the summer flounder, scup, and black sea bass fisheries in 2012. The Summer Flounder Advisors will meet via Webinar from 9 a.m. to 11 a.m., the Scup Advisors will meet via Webinar from 12:30 p.m. to 2:30 p.m., and the Black Sea Bass Advisors will meet via Webinar from 2:30 p.m. to 4:30 p.m. (see ADDRESSES).

Special Accommodations

The meeting is physically accessible to people with disabilities. Requests for sign language interpretation or other auxiliary aids should be directed to M. Jan Saunders at the Mid-Atlantic Council Office, (302) 526-5251, at least 5 days prior to the meeting date.

Dated: November 4, 2011.
Tracey L. Thompson,
Acting Director, Office of Sustainable Fisheries, National Marine Fisheries Service.

[FR Doc. 2011-29008 Filed 11-8-11; 8:45 am]

BILLING CODE 3510-22-P